DEPARTMENT OF THE TREASURY

Submission for OMB Review; Comment Request

March 5, 2013.

The Department of the Treasury will submit the following information collection request to the Office of Management and Budget (OMB) for review and clearance in accordance with the Paperwork Reduction Act of 1995, Public Law 104-13, on or after the date of publication of this notice.

DATES: Comments should be received on or before April 8, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Bureau of the Public Debt (BPD)

OMB Number: 1535-0089.

Type of Review: Revision of a currently approved collection.

Title: Implementing Regulations: Government Securities Act of 1986, as amended.

Abstract: The regulations require government securities broker/dealers to make and keep certain records concerning government securities activities, to submit financial reports, and make certain disclosures to investors. The regulations also require depository institutions to keep certain records of non-fiduciary custodial holdings of government securities. The regulations and associated collections are fundamental to customer protection and financial responsibility.

Affected Public: Private Sector: Businesses or other for-profits.

Estimated Total Burden Hours: 282,986.

OMB Number: 1535-0114.

Type of Review: Revision of a currently approved collection.

Title: Release.

Form: PD F 2001

Abstract: It may be necessary for a registered owner/co-owner of savings bonds or a TreasuryDirect account holder to waive a claim as the result of an unauthorized payment to person(s) not entitled and then release the Government of any liability.

Affected Public: Individuals or Households.

Estimated Total Burden Hours: 10.

Dawn D. Wolfgang,
Treasury PRA Clearance Officer.

[FR Doc. 2013-05428 Filed 3-7-13; 8:45 am]

BILLING CODE 4810-39-P